DEPARTMENT OF EDUCATION

Privacy Act of 1974; System of Records

AGENCY: Office of Elementary and Secondary Education, Department of Education.

ACTION: Notice of a new system of records.

SUMMARY: In accordance with the Privacy Act of 1974, as amended (Privacy Act), 5 U.S.C. 552a, the Department of Education (Department) publishes this notice of a new system of records entitled “Indian Education—Individual Reporting on Regulatory Compliance Related to the Indian Education Professional Development Program's Service Obligation and the Government Performance and Results Act of 1993 (GPRA)” (18-14-05).

The Indian Education Professional Development program, authorized under title VII, part A of the Elementary and Secondary Education Act of 1965, as amended (ESEA), is designed to increase the number of, provide training to, and improve the skills of American Indian or Alaska Natives serving as teachers and school administrators in schools serving American Indian or Alaska Native students.

Section 7122(h) of the ESEA (20 U.S.C. 7442(h)) requires that individuals who receive financial assistance through the Indian Education Professional Development program subsequently complete a service obligation equivalent to the amount of time for which the participant received financial assistance. Participants who do not satisfy the requirements of the regulations must repay all or a pro-rated part of the cost of assistance, in accordance with 20 U.S.C. 7442(h) and 34 CFR 263.8(a)(3). The regulations in part 263 implement requirements governing, among other things, the service obligation and reporting requirements of the participants in the Indian Education Professional Development program, and repayment of financial assistance by these participants. In order for the Federal Government to ensure that the goals of the program are achieved, certain data collection, recordkeeping, and documentation are necessary.

In addition, GPRA requires Federal agencies to establish performance measures for all programs, and the Department has established performance measures for the Indian Education Professional Development program. Data collection from participants who have received financial assistance under the Indian Education Professional Development program is a necessary element of the Department's effort to evaluate progress on these measures.

The Department tracks participants who are receiving or have previously received support through the Indian Education Professional Development program. Participants must sign a payback agreement that includes contact information. Additionally, the Department receives information about participants from institutions of higher education (IHEs) and other eligible grantees when participants are no longer receiving assistance through the Indian Education Professional Development program. When the performance period is complete, the participant data are collected from the grantee and also from the participants.

Records in the system pursuant to this notice may include the name, social security number, date of birth, mailing address, telephone number, e-mail address, and alternate contact information for each participant in the grant, as well as the name and contact information of a person through whom the participant can be contacted, the number of semesters or months for which the participant needs to provide service in order to satisfy the service payback obligation, the total amount of financial assistance the participant received, the time period during which the participant must satisfy the service payback obligation, eligible employment to fulfill the service payback obligation, contact information for employers, and grant identification numbers. In addition, participants may request an educational deferment, which requires verification of acceptance in a university/college program, enrollment as a full-time student, registration each semester, timely submission of semester transcripts, and documentation of the participant as a student in good standing. Participants also provide information about specific areas of training, certifications or licensures obtained, reasons for leaving the program before completion, gender, ethnic origin, and education history. Participants are responsible for obtaining letters signed by the participant's supervisor that verify the employment information provided by the participant. These letters must be submitted to the Department every six months until service payback is completed.

DATES: The Department seeks comment on the new system of records described in this notice, in accordance with the requirements of the Privacy Act. We must receive your comments on the proposed routine uses for the system of records described in this notice on or before February 24, 2011.

The Department filed a report describing the new system of records covered by this notice with the Chair of the Senate Committee on Homeland Security and Governmental Affairs, the Chair of the House Committee on Oversight and Government Reform, and the Administrator of the Office of Information and Regulatory Affairs, Office of Management and Budget (OMB) on January 10, 2011. This system of records will become effective at the later date of—(1) the expiration of the 40-day period for OMB review on February 22, 2011 unless OMB waives 10 days of the 40-day review period for compelling reasons shown by the Department, or (2) February 24, 2011, unless the system of records needs to be changed as a result of public comment or OMB review.

ADDRESSES: Address all comments about the proposed routine uses to Lana Shaughnessy, Office of Indian Education, U.S. Department of Education, 400 Maryland Ave., SW., room 3E231, Washington, DC 20202-2600. Telephone: (202) 205-2528. If you prefer to send comments through the Internet, use the following address: oese@ed.gov.

You must include the term “Indian Education Professional Development Program's Service Obligation” in the subject line of the electronic message.

During and after the comment period, you may inspect all comments about this notice at the Department in room 4154, 550 12th Street, SW., Washington, DC, between the hours of 8 a.m. and 4:30 p.m., Eastern Time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Lana Shaughnessy, Office of Indian Education, U.S. Department of Education. Telephone: (202) 205-2528. If you use a telecommunications device for the deaf (TDD), call the Federal Relay Service, toll free, at 1-800-877-8339.

Individuals with disabilities can obtain this document in an accessible format (e.g., braille, large print, audiotape, or computer diskette) on request to the contact person listed in this section.

SUPPLEMENTARY INFORMATION: Introduction:

The Privacy Act (5 U.S.C. 552a(e)(4)) requires the Department to publish in the Federal Register this notice of a new system of records maintained by the Department. The Department's regulations implementing the Privacy Act are contained in 34 CFR Part 5(b).

The Privacy Act applies to information about individuals that contains individually identifying information and that is retrieved by a unique identifier associated with each individual, such as a name or social security number. The information about each individual is called a “record,” and the system, whether manual or computer-based, is called a “system of records.”

The Privacy Act requires each agency to publish notices of systems of records in the Federal Register and to submit reports to the OMB whenever the agency publishes a new system of records. Each agency is also required to send copies of the report to the Chair of the Senate Committee on Homeland Security and Governmental Affairs and the Chair of the House Committee on Oversight and Government Reform.

Electronic Access to This Document: You can view this document, as well as all other documents of this Department published in the Federal Register, in text or Adobe Portable Document Format (PDF) on the Internet at the following Web site: http://www.ed.gov/news/fedregister. To use PDF you must have Adobe Acrobat Reader, which is available free at this site.

Note: The official version of this document is the document published in the Federal Register. Free Internet access to the official edition of the Federal Register and the CFR is available on GPO Access at: http://www.gpoaccess.gov/nara/index.html.

Dated: January 10, 2011.
Thelma Meléndez de Santa Ana,
Assistant Secretary for Elementary and Secondary Education.

For the reasons discussed in the preamble, the Assistant Secretary for Elementary and Secondary Education, U.S. Department of Education (Department), publishes a notice of a new system of records to read as follows:

18-14-05

SYSTEM NAME:

Indian Education—Individual Reporting on Regulatory Compliance Related to the Indian Education Professional Development program's Service Obligation and the Government Performance and Results Act of 1993 (GPRA).

SECURITY CLASSIFICATION:

None.

SYSTEM LOCATION:

Office of Indian Education, U.S. Department of Education, 400 Maryland Ave., SW., Washington, DC 20202-2600.

Records referred to the Department's Accounts Receivable Group will also be stored in a system located in the office of the Chief Financial Officer, Financial Management Operations, Accounts Receivable Group, U.S. Department of Education, 550 12th Street, SW., Washington, DC 20202.

CATEGORIES OF INDIVIDUALS COVERED BY THE SYSTEM:

This system contains records on individuals who are recipients of financial assistance from grants awarded to eligible entities by the Indian Education Professional Development program (CFDA 84.299B).

CATEGORIES OF RECORDS IN THE SYSTEM:

This system consists of records pertaining to participants who received financial assistance under the Indian Education Professional Development program. Information in this system will include the name, social security number, date of birth, mailing address, telephone number, e-mail address, and alternate contact information for each participant in the grant, as well as the name and contact information of a person through whom the participant can be contacted, the number of semesters or months for which the participant needs to provide service in order to satisfy the service payback obligation, the total amount of financial assistance the participant received, the time period during which the participant must satisfy the service payback obligation, eligible employment to fulfill the service payback obligation, contact information for employers, and grant identification numbers. In addition, participants may request an educational deferment, which requires verification of acceptance in a university/college program, enrollment as a full time student, registration each semester, timely submission of semester transcripts and documentation of the participant as a student in good standing. Participants also provide information about specific areas of training, certifications or licensures obtained, reasons for leaving the program before completion, gender, ethnic origin, and education history. Participants are responsible for obtaining letters signed by the participant's supervisor that verify the employment information provided by the participant. These letters must be submitted to the Department every six months until the required service payback obligation is completed.

Social security numbers are collected in order to ensure the correct identity of the participant in the event fiscal payback is required.

This system of records does not cover records maintained in the Department's system of records entitled “Education's Central Automated Processing System (EDCAPS)” (18-03-02) as part of the Department's receivables management function.

AUTHORITY FOR MAINTENANCE 0F THE SYSTEM:

This system of records is authorized under sections 7121 through 7122 of the ESEA (20 U.S.C. 7441-7442).

PURPOSE(S):

The information in this system is used for the following purposes: To track a participant's enrollment, employment, fulfillment of the terms of the service obligation; to evaluate progress on the performance measures for the Indian Education Professional Development program (CFDA 84.299B); and to collect debts owed to the Government under this program.

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purposes for which the record was collected. The Department may make these disclosures on a case-by-case basis or, if the Department has complied with the computer matching requirements of the Privacy Act, as amended by the Computer Matching and Privacy Protection Act of 1988, under a computer matching agreement.

(1) Program Purposes. The Department may disclose records from this system of records:

(a) To the participant's employers to verify the eligible employment of participants who were supported with financial assistance under the Indian Education Professional Development program and who are attempting to fulfill their service payback obligation.

(b) To grantees to inform them of their participants' employment outcomes.

(2) Disclosure in the Course of Responding to Breach of Data. The Department may disclose records from this system of records to appropriate agencies, entities, and persons when: (a) It suspects or has confirmed that the security or confidentiality of information in this system has been compromised; (b) the Department has determined that as a result of the suspected or confirmed compromise, there is a risk of harm to economic or property interests, identity theft or fraud, or harm to the security or integrity of this system or other systems or programs (whether maintained by the Department or by another agency or entity) that rely upon the compromised information; and (c) the disclosure made to such agencies, entities, and persons is reasonably necessary to assist the Department's efforts to respond to the suspected or confirmed compromise and prevent, minimize, or remedy such harm.

(3) Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

(4) Disclosure for Use by Other Law Enforcement Agencies. The Department may disclose information to any Federal, State, local, or foreign agency, or other public authority responsible for enforcing, investigating, or prosecuting violations of administrative, civil, or criminal law or regulation if that information is relevant to any enforcement, regulatory, investigative, or prosecutorial responsibility within the receiving entity's jurisdiction.

(5) Enforcement Disclosure. In the event that information in this system of records indicates, either on its face or in connection with other information, a violation or potential violation of any applicable statutory, regulatory, or order of a competent authority, the Department may disclose the relevant records to the appropriate agency, whether foreign, Federal, State, Tribal, or local, charged with the responsibility of investigating or prosecuting that violation or charged with enforcing or implementing the statute, Executive order, rule, regulation, or order issued pursuant thereto.

(6) Litigation and Alternative Dispute Resolution (ADR) Disclosure.

(a) Introduction. In the event that one of the following parties is involved in litigation or ADR, or has an interest in litigation or ADR, the Department may disclose certain records to the parties described in paragraphs (b), (c), and (d) of this routine use under the conditions specified in those paragraphs:

(i) The Department or any of its components.

(ii) Any Department employee in his or her official capacity.

(iii) Any Department employee in his or her individual capacity if the U.S. Department of Justice (DOJ) has been requested to or has agreed to provide or arrange for representation for the employee.

(iv) Any Department employee in his or her individual capacity where the Department has agreed to represent the employee.

(v) The United States where the Department determines that the litigation is likely to affect the Department or any of its components.

(b) Disclosure to DOJ. If the Department determines that disclosure of certain records to DOJ is relevant and necessary to litigation or ADR, the Department may disclose those records as a routine use to DOJ.

(c) Adjudicative Disclosure. If the Department determines that it is relevant and necessary to litigation or ADR to disclose certain records to an adjudicative body before which the Department is authorized to appear, to an individual, or to an entity designated by the Department or otherwise empowered to resolve or mediate disputes, the Department may disclose those records as a routine use to the adjudicative body, individual, or entity.

(d) Disclosure to parties, counsel, representatives, or witnesses. If the Department determines that disclosure of certain records to a party, counsel, representative, or witness is relevant and necessary to litigation or ADR, the Department may disclose those records as a routine use to the party, counsel, representative, or witness.

(7) Freedom of Information Act (FOIA) and Privacy Act Advice Disclosure. The Department may disclose records to DOJ or OMB if the Department concludes that disclosure is desirable or necessary in determining whether particular records are required to be disclosed under FOIA or the Privacy Act.

(8) Disclosure to DOJ. The Department may disclose records to DOJ to the extent necessary for obtaining DOJ advice on any matter relevant to an audit, inspection, or other inquiry related to the program covered by this system.

(9) Congressional Member Disclosure. The Department may disclose the records of an individual to a member of Congress or the member's staff when necessary to respond to an inquiry from the member made at the written request of that individual. The member's right to the information is no greater than the right of the individual who requested the inquiry. Records are disclosed to congressional members and staff investigating and seeking to resolve individuals' requests, complaints, or concerns.

(10) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

(11) Disclosure To Consumer Reporting Agencies. Disclosures pursuant to 5 U.S.C. 552a(b)(12): The Department may disclose to a consumer reporting agency information regarding a valid, overdue claim of the Department; such information is limited to—(1) the name, address, social security number, and other information necessary to establish the identity of the individual responsible for the claim; (2) the amount, status, and history of the claim; and (3) the program under which the claim arose. The Department may disclose the information specified in this paragraph under 5 U.S.C. 552a(b)(12) and the procedures contained in 31 U.S.C. 3711(e). A consumer reporting agency to which these disclosures may be made is defined in 31 U.S.C. 3701(a)(3).

(12) Debt Servicing. The Department may disclose records to the United States Department of the Treasury for the purpose of collecting debts owed to the Government by individuals who fail to satisfy their requirements under this program.

POLICIES AND PRACTICES FOR STORING, RETRIEVING, ACCESSING, RETAINING, AND DISPOSING OF RECORDS IN THE SYSTEM:

STORAGE:

The Department maintains hard copy records in locked file cabinets that are located within locked offices protected by a security system.

The Department will maintain records referred to Accounts Receivable in the Education Central Automated Processing System of Records (EDCAPS).

RETRIEVABILITY:

Records in this system are indexed by a number assigned to each individual. Records are retrieved by name or grant number.

SAFEGUARDS:

All physical access to the Department's site, where this system of records is maintained, is controlled and monitored by security personnel who check each individual entering the building for his or her employee or visitor badge.

In accordance with Department policy, as set forth in Administrative Communication System OM:5-101 entitled “Contractor Employee Personnel Security Screenings,” all contract personnel who have facility access and system access are required to undergo a security clearance investigation. Contractors requiring access to Privacy Act data are required to hold, at a minimum, a moderate risk security clearance level.

Department personnel and Department contractors are also required to complete security awareness training on an annual basis. This training is required to ensure that contract and Department users are trained appropriately in safeguarding Privacy Act data in accordance with OMB Circular A-130, Appendix III.

The Department will maintain security of the complete set of all master data files and documentation. Access to individually identifying data will be strictly controlled. Unless a file is needed for review or processing, all hard copy data will be kept in locked file cabinets during work and nonworking hours. When a file is needed, work will take place in a single room. The system is required to ensure that information identifying individuals is in files physically separated from other data.

RETENTION AND DISPOSAL:

These records will be maintained and disposed of in accordance with the records retention and disposition authority approved by the National Archives and Records Administration (NARA). Pending NARA approval of that authority, these records shall not be destroyed or deleted. Records will be kept until completion of service or cash payback is verified.

SYSTEM MANAGER AND ADDRESS:

Assistant Secretary for Elementary and Secondary Education, U.S. Department of Education, 400 Maryland Ave., SW., room 3W315, Washington, DC 20202-2600.

NOTIFICATION PROCEDURE:

If you wish to determine whether a record exists regarding you in the system of records, contact the systems manager at the address listed under SYSTEM MANAGER AND ADDRESS. Your request must meet the requirements of 34 CFR 5b.5, including proof of identity.

RECORD ACCESS PROCEDURE:

If you wish to gain access to your record in the system of records, contact the system manager at the address listed under SYSTEM MANAGER AND ADDRESS. Your request must meet the requirements of 34 CFR 5b.5, including proof of identity.

CONTESTING RECORD PROCEDURE:

If you wish to contest the content of a record regarding you in the system of records, contact the system manager at the address listed under SYSTEM MANAGER AND ADDRESS. Your request must meet the requirements of 34 CFR 5b.7, including proof of identity.

RECORD SOURCE CATEGORIES:

The collection of records information is obtained from the grantee, participants, and employers.

When the Department determines a participant will not fulfill a payback obligation through service and must instead repay some or all of the financial assistance the participant received, the Department will forward information to the Department's Accounts Receivable Group in the Office of the Chief Financial Officer (OCFO).

EXEMPTIONS CLAIMED FOR THE SYSTEM:

None.

[FR Doc. 2011-1516 Filed 1-24-11; 8:45 am]

BILLING CODE 4000-01-P